INTERNATIONAL TRADE COMMISSION

[Investigation No. 337-TA-775]

Certain Wireless Communication Devices and Systems, Components Thereof, and Products Containing Same; Notice of Commission Determination Not To Review Initial Determination Terminating Investigation

AGENCY: U.S. International Trade Commission.

ACTION: Notice.

SUMMARY: Notice is hereby given that the U.S. International Trade Commission has determined not to review an initial determination (“ID”) (Order No. 24) of the presiding administrative law judge (“ALJ”) terminating the investigation based upon withdrawal of the complaint.

FOR FURTHER INFORMATION CONTACT: Panyin A. Hughes, Esq., Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 8, 2011 based on a complaint filed by Linex Technologies, Inc. of Palm Beach Gardens, Florida (“Linex”). 76 FR 33364 (June 8, 2011). The complaint alleged violations of section 337 of the Tariff Act of 1930, as amended (19 U.S.C. 1337), in the importation into the United States, the sale for importation, and the sale within the United States after importation of certain wireless communication devices and systems, components thereof, and products containing the same by reason of infringement of certain claims of United States Patent Nos. 6,757,322 and RE42,219. The notice of investigation named the following entities as respondents: Hewlett-Packard Company of Palo Alto, California; Apple Inc. of Cupertino, California; Aruba Networks, Inc. of Sunnyvale, California; Meru Networks of Sunnyvale, California; and Ruckus Wireless of Sunnyvale, California.

On April 2, 2012, Linex filed an unopposed motion to terminate the investigation in its entirety based upon withdrawal of the complaint. No responses to the motion were filed.

On April 3, 2012, the ALJ issued the subject ID (Order No. 24) terminating the investigation. None of the parties petitioned for review of the ID. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: April 19, 2012.
James R. Holbein,
Secretary to the Commission.

[FR Doc. 2012-9890 Filed 4-24-12; 8:45 am]

BILLING CODE 7020-02-P